DEPARTMENT OF HEALTH AND HUMAN SERVICES

Centers for Disease Control and Prevention

Healthcare Infection Control Practices Advisory Committee (HICPAC)

In accordance with section 10(a)(2) of the Federal Advisory Committee Act (Pub. L. 92-463), the CDC announces the following meeting of the aforementioned committee:

Times and Dates:

9 a.m.-5 p.m., November 4, 2010.

9 a.m.-12 p.m., November 5, 2010.

Place: Washington Marriott at Metro Center, Salons C-D, 775 12th Street, NW., Washington, DC 20005

Status: This meeting is open to the public, limited only by the space available. Please register for the meeting online at http://www.cdc.gov/hicpac or by sending an e-mail to hicpac@cdc.gov.

Purpose: The Committee is charged with providing advice and guidance to the Secretary, the Assistant Secretary for Health, the Director, CDC, and the Director, National Center for Emerging and Zoonotic Infectious Diseases (NCEZID), regarding the practice of healthcare infection control and strategies for surveillance, prevention, and control of healthcare-associated infections (e.g., nosocomial infections), antimicrobial resistance, and related events in settings where healthcare is provided, including hospitals, ambulatory and long-term care facilities, and home health agencies. The Committee shall advise CDC on periodic updating of guidelines and other policy statements regarding prevention of healthcare-associated infections and healthcare-related conditions.

Matters To Be Discussed: The agenda will include updates on CDC's activities for healthcare-associated infections; the draft guideline for the Prevention of Norovirus Gastroenteritis Outbreaks in Healthcare Settings; draft guideline for prevention of infections among patients in neonatal intensive care units (NICU); draft guideline for Infection Control in Healthcare Personnel; and discussion of infection control in ambulatory care settings.

Agenda items are subject to change as priorities dictate.

Contact Person for More Information: Michelle King, HICPAC, Division of Healthcare Quality Promotion, CDC, l600 Clifton Road, NE., Mailstop A-07, Atlanta, Georgia 30333. Telephone (404) 639-2936. E-mail: hicpac@cdc.gov.

The Director, Management Analysis and Services Office, has been delegated the authority to sign Federal Register notices pertaining to announcements of meetings and other committee management activities, for both CDC and the Agency for Toxic Substances and Disease Registry.

Dated: October 8, 2010.
Elaine L. Baker,
Director, Management Analysis and Services Office, Centers for Disease Control and Prevention.

[FR Doc. 2010-26113 Filed 10-15-10; 8:45 am]

BILLING CODE 4163-18-P